ENVIRONMENTAL PROTECTION AGENCY

[ER-FRL-6672-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050371, ERP No. D-FAA-J51012-UT, St. George Municipal Airport Replacement, Funding, City of St. George, Washington County, UT.

Summary: EPA expressed environmental concern about air quality impacts. EPA requested additional analysis of air toxic/PM 2.5 and cumulative impacts of the growth.

Rating EC2.

EIS No. 20050490, ERP No. D-COE-K36144-CA, San Juan Creek and Western San Mateo Creek Watershed Special Area Management Plan (SAMP), Proposed Watershed-Based SAMP to Balance Aquatic Resource Protection and Reasonable Economic Development, Southern Portion of Orange County, CA

Summary: EPA is supportive of the SAMP but expressed concerns with the alternatives analysis, the permitting procedures, air quality impacts, and compliance with Clean Water Act guidelines. EPA requested additional information regarding evaluation of alternatives and associated mitigation measures.

Rating EC2.

EIS No. 20050515, ERP No. D-NPS-E65077-FL, Fort King National Historic Landmark, Special Resource Study, Implementation, Second Seminole War Site, City of Ocala, Marion County, FL.

Summary: EPA does not object to the management alternatives presented in the DEIS.

Rating LO.

EIS No. 20050521, ERP No. D-BLM-K65294-AZ, Arizona Strip Field Office Resource Management Plan, which includes: Vermilion Cliffs National Monument, Grand-Canyon-Parashant National Monument (Parashant) BLM Portion, General Management Plan for the Grand Canyon-Parashant National Monument NPS Portion of Parashant, Implementation, AZ.

Summary: EPA expressed environmental concerns about impacts from Off Highway Vehicle (OHV) use and cumulative impacts from rapidly increasing growth in the planning area. EPA recommended several changes to the preferred alternative to reduce impacts to affected resources and increase protections for the threatened Mojave Desert Tortoise.

Rating EC2.

EIS No. 20050531, ERP No. D-COE-K36145-CA, Prado Flood Control Basin Master Plan Project, Construct, Maintain and Operate Recreation Facilities, Santa Ana River Basin, Riverside and San Bernardino Counties, CA.

Summary: EPA expressed environmental concerns about impacts to sensitive species/habitat and air quality. EPA requested additional information regarding these impacts, as well as the process for future NEPA analysis.

Rating EC2.

EIS No. 20050533, ERP No. D-AFS-D65034-WV, Allegheny Wood Product Easement, Proposes to Convey an Easement of Right-of-Way along the Railroad Grade located in the Blackwater Canyon Area, Monongahela National Forest, Tucker County, WV.

Summary: EPA expressed environmental concerns about potential impacts from the build alternatives on aquatic and terrestrial habitat, threatened and endangered species, and cultural resources. The final EIS should include additional information on potential impacts and if appropriate, mitigation measures.

Rating EC2.

Final EISs

EIS No. 20050496, ERP No. F-DOE-B05194-ME, Bangor Hydro-Electric Northeast Reliability Interconnect, Construct, Connect, Operate and Maintain an Electric Transmission Line Amend Presidential Permit (PP-89), DOE/EIS-0372, Hancock, Penobscot and Washington Counties, ME.

Summary: EPA continues to have environmental concerns about impacts to wetlands and vernal pools.

EIS No. 20050412, ERP No. F-FHW-J40166-UT, U.S. 6 Highway Project, Improvements from Interstate 15(I-15) in Spanish Fork to Interstate (I-70) near Green River, Funding, Right-of-Way Permit and U.S. Army COE Section 404 Permit, Utah, Wasatch, Carbon, Emery Counties, UT.

Summary: EPA continues to have concerns about the proposed project regarding possible further impairment to Price River and Soldier Creek. EPA urges appropriate follow through on intended Best Management Practices (BMPs).

EIS No. 20050463, ERP No. F-BLM-K39093-NV, North Valleys Rights-of-Way Projects, Proposed Construction and Operation of Water Transmission Pipelines, Washoe County, NV.

Summary: EPA continued to express environmental concerns about the significant cumulative impacts that could result in Honey Lake Basin or Dry Valley; wastewater treatment and disposal in the North Valleys; and increased fugitive dust emissions if groundwater drawdown causes die off of natural vegetation.

EIS No. 20060006, ERP No. F-AFS-L65490-AK, Scott Peak Project Area, Harvesting Timber and Development of Road Management, Tongrass National Forest, Petersburg Ranger District, Northeast of Kupreanof Island, AK.

Summary: EPA concerns about impacts to water quality and potential impacts from cumulative impacts of future sales in the area were adequately addressed by selection of a modified alternative.

Dated: February 17, 2006.
Robert W. Hargrove,
Director, NEPA Compliance Division, Office of Federal Activities.

[FR Doc. E6-2312 Filed 2-16-06; 8:45 am]

BILLING CODE 6560-50-P